DEPARTMENT OF THE INTERIOR

National Park Service

[NPS-WASO-NAGPRA-NPS0028223; PPWOCRADN0-PCU00RP14.R50000]

Notice of Inventory Completion: Memphis Pink Palace Museum, Memphis, TN

AGENCY: National Park Service, Interior.

ACTION: Notice.

SUMMARY: The Memphis Pink Palace Museum has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Memphis Pink Palace Museum. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Memphis Pink Palace Museum at the address in this notice by August 8, 2019.

ADDRESSES: Louella Weaver, Memphis Pink Palace Museum, 3050 Central Avenue, Memphis, TN 38111, telephone (901) 636-2325, email Louella.Weaver@memphistn.gov.

SUPPLEMENTARY INFORMATION: Notice is here given in accordance with the Native American Graves Protection and Repatriation Act (NAGPRA), 25 U.S.C. 3003, of the completion of an inventory of human remains under the control of the Memphis Pink Palace Museum, Memphis, TN. The human remains were removed from DeSoto County, MS.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Memphis Pink Palace Museum professional staff in consultation with representatives of The Chickasaw Nation.

History and Description of the Remains

Sometime prior to 1972, human remains representing, at minimum, one individual were removed from Lake Cormorant in DeSoto County, MS. In 1972, the human remains, an ulna, were given to the Pink Palace Museum by an unknown donor (label 1972.27.7). No known individuals were identified. No associated funerary objects are present.

Determinations Made by the Memphis Pink Palace Museum

Officials of the Memphis Pink Palace Museum have determined that:

• Pursuant to 25 U.S.C. 3001(9), the human remains described in this notice are Native American, as the land from which they were removed was formerly the tribal land of The Chickasaw Nation.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Chickasaw Nation.

• Treaties, Acts of Congress, or Executive Orders, indicate that the land from which the Native American human remains were removed is the aboriginal land of The Chickasaw Nation.

• Pursuant to 43 CFR 10.11(c)(1), the disposition of the human remains may be to The Chickasaw Nation.

Additional Requestors and Disposition

Representatives of any Indian Tribe or Native Hawaiian organization not identified in this notice that wish to request transfer of control of these human remains should submit a written request with information in support of the request to Louella Weaver, Memphis Pink Palace Museum, 3050 Central Avenue, Memphis, TN 38111, telephone (901) 636-2325, email Louella.Weaver@memphistn.gov, by August 8, 2019. After that date, if no additional requestors have come forward, transfer of control of the human remains to The Chickasaw Nation may proceed.

The Memphis Pink Palace Museum is responsible for notifying The Chickasaw Nation that this notice has been published.

Dated: June 14, 2019.
Melanie O'Brien,
Manager, National NAGPRA Program.

[FR Doc. 2019-14565 Filed 7-8-19; 8:45 am]

BILLING CODE 4312-52-P